DEPARTMENT OF TRANSPORTATION

Federal Highway Administration

Environmental Impact Statement: SR 20 (Sharpes Corner to SR 536) Skagit County, Washington

AGENCY: Federal Highway Administration (FHWA), DOT.

ACTION: Cancellation of Notice of Intent, FR document 99-23249.

SUMMARY: The FHWA is issuing this notice to rescind the previous Notice of Intent issued on August 27, 1999, to prepare an Environmental Impact Statement (EIS) for the proposed highway project in Skagit County, Washington. It was printed in the Federal Register on September 8, 1999.

FOR FURTHER INFORMATION CONTACT: Elizabeth Healy, Transportation and Environmental Engineer, Federal Highway Administration, Washington Division, 711 South Capitol Way, Suite 501, Olympia, Washington 98501, telephone: (360) 753-9480; Don Nelson, Director of Environmental and Engineering Programs, Washington State Department of Transportation, Transportation Administration Building, P.O. Box 47323, Olympia, WA (360) 705-6828, Director or Lorena Eng P.E., Northwest Region Administrator, WSDOT, 15700 Dayton Avenue North, P.O. Box 330310, Seattle, WA 98133-9710, telephone: (206) 440-4691.

SUPPLEMENTARY INFORMATION: The FHWA, in cooperation with the Washington State Department of Transportation (WSDOT), issued a Notice of Intent on September 8, 1999 to prepare an (EIS) on a proposal to prepare alternative solutions to reduce the accident rate and provide capacity to meet current and future needs along a seven miles of the State Route 20 corridor near Anacortes from Sharpe's Corner to SR 536. The SR 20 transportation safety improvement EIS is a National Environmental Policy Act (NEPA) “pilot” project, intended to evaluate and improve the application of the NEPA process specifically for EIS level of documentation. The “pilot” process was developed cooperatively by Washington State and Federal agencies, and is jointly sponsored by FHWA and WSDOT. As project limits and elements have been refined, the impacts have been more specifically identified, and the FHWA and WSDOT have jointly decided that the project will not result in significant impacts to the environment. A documented Categorical Exclusion (DCE) is the most appropriate environmental document under the NEPA rather than an EIS. The SR 20 transportation safety improvement project will phase-out of the “pilot” process upon definition of the preferred alternative, and be followed by preparation of the DCE and submission of the DCE for public comment. Any person with questions about the project may write to Paul Johnson P.E. at 15700 Dayton Avenue North, MS 210, P.O. Box 330310, Seattle, WA 98133-9710, or call (206) 440-4711.

(Catalog of Federal Domestic Assistance Program Number 20.205, Highway Planning and Construction. The regulations implementing Executive Order 12372 regarding intergovernmental consultation on Federal programs and activities apply to this program.)

Issued: November 8, 2001.
Elizabeth Healy,
Transportation & Environmental Engineer, Olympia, Washington.

[FR Doc. 02-331 Filed 1-7-02; 8:45 am]

BILLING CODE 4910-22-M